DEPARTMENT OF STATE

22 CFR Part 41

[Public Notice 3728]

Visas: Nonimmigrant Classes: Irish Peace Process Cultural and Training Program Visitors, Q Classification

AGENCY: Bureau of Consular Affairs, Department of State.

ACTION: Interim rule with request for comments.

SUMMARY: This rule removes from the existing interim regulation on the issuance of visas in the Q-2 nonimmigrant visa category the requirements for qualification of a program participant in the Irish Peace Process Cultural and Training Program (IPPCTP) to be considered by the Program Administrator. It also adds new requirements pertaining to the content of the certification letter needed by an alien in order to obtain a visa in the Q-2 category as a participant in the IPPCTP. The existing interim regulation was published on March 17, 2000. The establishment and operation of the IPPCTP was originally published on March 17, 2000. That interim regulation is also being republished, with changes elsewhere in this issue of the Federal Register. These changes in the rule are being adopted as a result of a review of the IPPCTP conducted by the Departments of State and Justice during the program's initial program year. The changes are intended to distinguish the responsibilities of consular from those of the Program Administration of the IPPCTP.

DATES: Effective Date: This interim rule takes effect on October 16, 2001.

Comment Date: The Department will accept written comments which must be received no later than December 17, 2001.

ADDRESSES: Written comments may be submitted, in duplicate, to H. Edward Odom, Chief, Legislation and Regulations Division, Visa Office, Room L603-C, SA-1, Department of State, Washington, DC 20520-0106.

FOR FURTHER INFORMATION CONTACT: H. Edward Odom, Chief, Legislation and Regulations Division, Visa Office, Room L603-C, SA-1, Department of State, Washington, D.C. 20520-0106, (202) 663-1204; or e-mail: odomhe@state.gov.

SUPPLEMENTARY INFORMATION:

What Information Is Being Removed from the Q-2 Regulation in Part 41 and Why?

The current regulation pertaining to the Q-2 nonimmigrant visa category is found at 22 CFR 41.57(b). The Department published this rule as an interim final rule with a 60-day period for public comment (65 FR 14768, March 17, 2000). There were no comments received from the public regarding the interim rule. Nevertheless, the Department is making some changes to the interim rule following an interagency review of the IPPCTP during its initial program year. The rule as originally written contained a description of the factual elements that an alien applicant for the IPPCTP must establish to the satisfaction of the Program Administrator. However, because the determination of those elements is, in the first instance, a responsibility of the Program Administrator under authority delegated to the Administrator by the Department of State, the elements should instead be described in the regulation relating to the structure and operation of the IPPCTP. Therefore, they are being removed from this regulation pertaining to visa issuance and appear in a separate notice that describes structure and operation of the program itself.

What Information Is Being Added to the Q-2 Regulation in Part 41 and Why?

Under the IPPCTP, participants may be selected either from among unemployed persons or from among employed persons whose employers wish them to participate in the IPPCTP in order to receive additional training to enhance their existing job skills. Requirements for participation of the latter group in the IPPCTP were still being considered at the time of the publication of the existing interim rule. Therefore the list of requirements contained in the interim rule for information to be provided in the certification letter did not adequately reflect the information required for this group of participants. The additional requirements for participation of an already employed person in the IPPCTP have now been determined and will be reflected in the requirements for the certification letter by addition of the current employer's name and the interagency group formulating the IPPCTP has determined that the necessary physical residence in Northern Ireland or in a qualifying county of the Republic of Ireland required for participation in the program should be counted backward from the date of the issuance of the letter that certifies the acceptance of the alien into the program. Therefore, that change is also reflected in the portion of the regulation that describes the requirements for the content of the certification letter.

Will Any Other Changes Be Made to the Interim Regulation?

The Department is making one other small change to the interim rule. Section 41.57(b)(ii) will be revised to indicate that the certification letter required as evidence of an alien's acceptance into the IPPCTP will “establish” rather than simply “state” the alien's qualifications for the program. This will more accurately reflect the fact that the Program Administrator has verified such qualifications and is certifying them to the Department and to immigration and consular officers.

Interim Rule

How Is the Department of State Amending Its Regulations?

In this rule the Department is amending 22 CFR 41.57, in part, by removing part of the existing text relating to the requirements for the Q-2 Program Administrator in issuing the certification letter for the purpose of qualifying an alien for participation in the IPPCTP. The Department is publishing this rule in conjunction with a companion rule at 22 CFR 139 in which more accurately reflecting the administrative authorities relevant to implementation of the IPPCTP. The interim rule on the establishment and operation of IPPCTP was published originally at 65 FR 14764, March 17, 2000. The Department is also amending 22 CFR 41.57 by adding to the required content of the program certification letter certain information related to the employment in Ireland or Northern Ireland or already employed program participants. The rule establishes the issuance date of the certification letter as the date prior to which the length of physical residence of the applicant letter, and by changing the language regarding the certification letter to reflect the fact that the Program Administrator has established the alien's qualifications for participation in the IPPCTP.

Administrative Procedure Act

The Department's implementation of this regulation as an interim rule, with a provision for public comments, is based upon the “good cause” exceptions found at 5 U.S.C. 553(b)(B) and (d)(3). The Department decided that there was not enough time to issue a proposed rule with request for comments as the Irish Peace Process Cultural and Training Program is limited by law to a period that has already begun (FY 2000 through FY 2005, i.e., October 1, 1999 through September 30, 2005). Publication of this regulation as an interim rule will expedite implementation of Public Law 105-319 that this already in effect and allow eligible aliens to apply for an participate in this program as soon as possible in light of the statutory expiration of the program on October 1, 2005.

Regulatory Flexibility Act

The Department of State, in accordance with the Regulatory Flexibility Act (5 U.S.C. 605(b), has review this regulation and, by approving it, certifies that the rule will not have a significant economic impact on a substantial number of small entities. Participation in the Irish Peace Process Cultural and Training Program Act of 1998 is limited to 4,000 individuals annually for three consecutive years. The activities of the participants in the United States will take place in various locations and in a number of sectors of the economy so that no significant economic impact should occur.

Unfunded Mandates Reform Act of 1995

This rule will not result in the expenditure by State, local, and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment investment, productivity, innovation, or on the ability of United States-based companies to compete with foreign-based companies in domestic and export markets.

Executive Order 12866

The Department of State does not consider this rule, to be a “significant regulatory action” under Executive Order 12866, section 3(f), Regulatory Planning and Review. Therefore, in accordance with the letter to the Department of State of February 4, 1994 from the Director of the Office of Management and Budget, it does not require review by the Office of Management and Budget.

Executive Order 13132

This regulation will not have substantial direct effects on the States, on the relationship between the national government and the States, or on the distribution of power and responsibilities among the various levels of government. Therefore, in accordance with section 6 of Executive Order 13132, it is determined that this rule does not have sufficient federalism implications to warrant the preparation of a federalism summary impact statement.

Paperwork Reduction Act

This rule involves the collection of information subject to the Paperwork Reduction Act of 1995 by means of two information collections that have been approved by the Office of Management and Budget. The first is OMB # 1405-0018, Nonimmigrant Visa Application; the second is OMB # 1405-0124, Irish Peace Process Cultural and Training Program (IPPCTP) Employer Information Collection.

List of Subjects in 22 CFR Part 41

Aliens, Foreign officials, Passports and visas, Reporting and recordkeeping requirements, Students.

Accordingly, amend 22 CFR part 41 as follows:

PART 41—[AMENDED]

1. The authority citation for Part 41 continues to read as follows:

Authority: 8 U.S.C. 1104; Pub. L. 105-277, 112 Stat. 2681 et seq.

2. Amend 41.57 by revising paragraph (b) to read as follows:

§ 41.57 International cultural exchange visitors and visitors under the Irish Peace Process Cultural and Training Program Act (IPPCTPA).

* * * * *

(b) Trainees under INA section 101(a)(15)(Q)(ii)—(1) Requirements for classification under INA section 101(a)(15)(Q)(ii). A consular officer may classify an alien under the provisions of INA section 101(a)(15)(Q)(ii) if:

(i) The consular officer is satisfied that the alien qualifies under the provisions of that section;

(ii) The consular officer has received a certification letter prepared by a program administration charged by the Department of State in consultation with the Department of Justice with the operation of the Irish Peace Process Cultural and Training Program (IPPCTP) which establishes at a minimum:

(A) The name of the alien's employer in the United States, and, if applicable, in Ireland or Northern Ireland;

(B) If the alien is participating in the IPPCTP as an unemployed alien, that the employment in the United States is in an occupation designated by the employment and training administration of the alien's place of residence as being most beneficial to the local economy;

(C) That the program administrator has accepted the alien into the program;

(D) That the alien has been physically resident in Northern Ireland or in the counties of Louth, Monaghan, Cavan, Leitrim, Sligo, and Donegal in the Republic of Ireland and the length of time immediately prior to the issuance of the letter that the alien has claimed such place as his or her residence;

(E) The alien's date and place of birth;

(F) If the alien is participating in the IPPCTP as an already employed participant, the length of time immediately prior to the issuance of the letter that the alien has been employed by an employer in the alien's place of physical residence;

(iii) If applicable, the consular officer is satisfied the alien is the spouse or child of an alien classified under INA section 101(a)(15)(Q)(ii), and is accompanying or following to join the principal alien.

(2) Aliens not entitled to such classification. The consular officer must suspend action on the alien's application and notify the alien and the designated program administrator described in paragraph (b)(1)(ii) of this section if the consular officer knows or has reason to believe that an alien does not qualify under INA section 101(a)(15)(Q)(ii).

Dated: July 23, 2001.
Mary A. Ryan,
Assistant Secretary for Consular Affairs, Department of State.

[FR Doc. 01-25597 Filed 10-15-01; 8:45 am]

BILLING CODE 4710-06-P